DEPARTMENT OF HOMELAND SECURITY

Coast Guard

[Docket No. USCG-2020-0317]

Commercial Diving Operations—Equivalent Levels of Safety Policy Letter

AGENCY: Coast Guard, DHS.

ACTION: Notice of availability.

SUMMARY: The Coast Guard is announcing the availability of CG-OES Policy Letter 02-20, Commercial Diving Operations—Equivalent Levels of Safety. This policy letter provides guidance on Coast Guard acceptance of certain industry-recognized standards for commercial diving operations as providing a level of safety that is equivalent to the requirements contained in Coast Guard regulations.

DATES: This policy is applicable October 28, 2020.

FOR FURTHER INFORMATION CONTACT: If you have questions or feedback related to this policy, contact Mr. Ken A. Smith, Vessel and Facility Operating Standards Division (CG-OES-2), Coast Guard; telephone 202-372-1413, email Ken.A.Smith@uscg.mil.

SUPPLEMENTARY INFORMATION:

I. Abbreviations

ADCI Association of Diving Contractors International

CFR Code of Federal Regulations

DHS Department of Homeland Security

FR Federal Register

IMCA International Marine Contractors Association

U.S.C. United States Code

II. Discussion

The Coast Guard's requirements for commercial diving are found in Title 46 of the Code of Federal Regulations (CFR), part 197, subpart B. Based on data obtained by the Coast Guard in 2014, the majority of commercial diving operators subject to these requirements were members of commercial diving organizations that have established commercial diving standards.¹ As members of these organizations, these operators have committed to complying with the standards established by their organizations.

¹ U.S. Coast Guard, “Commercial Diving Operations: Notice of Proposed Rulemaking Preliminary Regulatory Analysis and Initial Regulatory Flexibility Analysis,” table 2-3, page 25 (Dec. 2014), (available at https://www.regulations.gov/document?D=USCG-1998-3786-0195.

These organizations have made improvements over the years, such as in the training and qualification requirements of commercial divers, medical examinations, and procedures associated with the different modes of diving, that have made commercial diving operations safer. The Association of Diving Contractors International (ADCI) and the International Marine Contractors Association (IMCA) contacted the Coast Guard and requested that we review their standards and issue a Commercial Diving Operations—Equivalent Levels of Safety Policy Letter. The Coast Guard has completed the review and is issuing CG-OES Policy Letter 02-20, Commercial Diving Operations—Equivalent Levels of Safety.

In summary, CG-OES Policy Letter 02-20 provides that the Coast Guard considers commercial diving operations being performed in accordance with ADCI International Consensus Standards for Commercial Diving and Underwater Operations, edition 6.3 (2016) ² and IMCA International Code of Practice for Offshore Diving (IMCA D 014 Version 2 (Nov 2019) ³ to provide a level of safety equivalent to the commercial diving regulations found in 46 CFR 197.300 through 197.462, which cover equipment, operations, diving mode procedures, periodic tests and inspections. Compliance with 46 CFR 197.480 through 197.488 is still required.

² Available at https://www.adc-int.org/content.asp?contentid=173.

³ Available at https://www.imca-int.com/publications/120/imca-international-code-of-practice-for-offshore-diving/.

Other organizations wishing to be considered by the Coast Guard as providing an equivalent level of safety to the commercial diving regulations in 46 CFR part 197 may submit information to the point of contact identified in the FOR FURTHER INFORMATION CONTACT section above, demonstrating how they meet the equivalency requirements.

III. Access to CG-OES Policy Letter 02-20

In addition to being available with other Coast Guard guidance documents at https://www.uscg.mil/guidance, a copy of CG-OES Policy Letter 02-20, Commercial Diving Operations—Equivalent Levels of Safety, is available in docket USCG-2020-0317 at https://www.regulations.gov and also at https://www.dco.uscg.mil/Our-Organization/Assistant-Commandant-for-Prevention-Policy-CG-5P/Commercial-Regulations-standards-CG-5PS/office-oes/.

IV. Legal Authority

Pursuant to Title 33 of the United States Code (U.S.C.) 1509, 46 U.S.C. 3306, and 43 U.S.C. 1333, the Coast Guard has issued safety regulations for commercial diving operations. These requirements are found in 46 CFR part 197, subpart B. The Coast Guard is issuing CG-OES Policy Letter 02-20, Commercial Diving Operations—Equivalent Levels of Safety in accordance with 46 CFR 197.206, which provides that the Coast Guard may accept substitutes for equipment, materials, apparatus, arrangements, procedures, or tests required by 46 CFR part 197 if the substitute provides an equivalent level of safety. This notice of availability is issued in accordance with 5 U.S.C. 552.

Dated: October 16, 2020.
R.V. Timme,
Rear Admiral, U.S. Coast Guard, Assistant Commandant for Prevention Policy.

[FR Doc. 2020-23855 Filed 10-27-20; 8:45 am]

BILLING CODE 9110-04-P